DEPARTMENT OF AGRICULTURE

Forest Service

Sheppard Creek Post-Fire Project, Flathead National Forest, Flathead and Lincoln Counties, MT

AGENCY: Forest Service, USDA.

ACTION: Notice; intent to prepare environmental impact statement.

SUMMARY: The USDA Forest Service will prepare an environmental impact statement (EIS) for a proposal to salvage merchantable timber affected by the Brush Creek wildland fire on the Tally Lake Ranger District of the Flathead National Forest. This fire burned a total of approximately 30,000 acres on the Flathead and Kootenai National Forests from July to September of 2007. Approximately 25,000 acres burned on the Tally Lake Ranger District where this project is proposed. The Kootenai National Forest will be preparing a separate salvage proposal. The city of Whitefish, Montana is located about twenty air miles to the east of the central portion of the project area.

DATES: Comments concerning the scope of the analysis should be received in writing on or before January 15, 2008. A public scoping meeting will be held in the city of Kalispell, Montana on January 9, 2008. The draft environmental impact statement (DEIS) is expected to be filed with the Environmental Protection Agency and made available for public review in April of 2008. No date has yet been determined for filing the final environmental impact statement (FEIS).

ADDRESSES: Send written comments to Lisa Timchak, Tally Lake District Ranger. The mailing address is Tally Lake Ranger District, 650 Wolfpack Way, Kalispell, Montana 59901. Electronic comments may be e-mailed to comments-northern-flathead-tally-lake@fs.fed.use with “Sheppard Creek Post-Fire Project” in the subject line and must be submitted in MSWord (*.doc) or rich text format (*.rtf). Comments received in response to this request will be available for public inspection and will be released in their entirety if requested pursuant to the Freedom of Information Act.

FOR FURTHER INFORMATION CONTACT: Bryan Donner, Planning Team Leader, Tally Lake Ranger District, 650 Wolfpack Way, Kalispell, Montana 59901 or call at (406) 758-0408.

SUPPLEMENTARY INFORMATION:

Purpose and Need for Action

The purpose and need for the action is to recover merchantable wood fiber affected by the Brush Creek Fire in a timely manner to support local communities and contribute to the long-term yield of forest products.

Fire-killed trees do not typically maintain their merchantability as wood products for more than one to three years, depending on their species and size. Sapwood staining, checking, woodborer damage, and decay will deleteriously reduce timber volume after that time. Smaller-diameter trees typically will not be merchantable within a year. Larger-diameter trees can retain their merchantability as wood products for a longer period, but merchantability will deteriorate as time goes on. While considering ecological needs, salvage harvesting an appropriate amount of fire-affected trees in a timely manner to ensure their economic utilization and starting the reforestation process in the burned area will help facilitate meeting desired conditions within the area of the Brush Creek Fire.

Proposed Action

The proposed action includes salvage of trees from approximately 6500 acres, which represents about 30 percent of the area that burned in the 2007 Brush Creek Fire on the Flathead National Forest. Approximately 17 miles of road reconstruction are proposed to access burned trees. This reconstruction on existing road templates would allow use of the road during salvage operations and would later close them after salvage operations are completed. In addition, new temporary road construction is proposed on approximately 9 miles to access burned trees. No salvage or road building is proposed within inventoried roadless lands. Planting conifer seedlings and ensuring that Best Management Practices would be maintained on roads used for the salvage would also be included in this project.

More detailed scoping information and maps can be accessed on the Flathead National Forest internet site at http://www.fs.fed.us/rl/flathead/.

Possible Alternatives

Alternative A is the no-action alternative. Alternative B, the proposed action described above, was developed by the interdisciplinary team to respond to the purpose and need for action and to comply with the Flathead Forest Plan. At least one additional action alternative will be developed by modifying the proposed action to respond to the significant issues identified during the public involvement and scoping process.

Responsible Official

The Responsible Official is the Forest Supervisor of the Flathead National Forest, 650 Wolfpack Way, Kalispell, Montana 59901. The Forest Supervisor will make a decision regarding this proposal considering the comments and responses, environmental consequences discussed in the final EIS, and applicable laws, regulations, and policies. The decision and rationale for the decision will be documented in a Record of Decision.

Nature of the Decision To Be Made

An environmental analysis for the Sheppard Creek Post-Fire Project will evaluate site-specific issues, consider management alternatives, and analyze the potential effects of the proposed action and alternatives. The scope of the project is limited to decisions concerning activities within the Sheppard Creek Post-Fire Project Area that meet the Purpose and Need, as well as desired conditions. An environmental impact statement will provide the Responsible Official with the information needed to decide which actions, if any, to approve.

This EIS will tier to the Flathead National Forest Land and Resource Management Plan and EIS of January 1986, and its subsequent amendments, which provide overall guidance for land management activities on the Flathead National Forest.

Scoping Process

Public questions and comments regarding this proposal are an integral part of this environmental analysis process. Comments will be used to identify issues and develop alternatives to the proposed action. To assist the Forest Service in identifying and considering issues and concerns on the proposed action, comments should be as specific as possible.

Input provided by interested and/or affected individuals, organizations, and government agencies will be used to identify resource issues that will be analyzed in the draft EIS. The Forest Service will identify significant issues raised during the scoping process, and use them to formulate alternatives, prescribe project design features, and/or analyze environmental effects.

Preliminary Issues

Preliminary issues and concerns include effects of treatments on the following: Soils, old growth and mature tree wildlife habitat, cavity nesting wildlife habitat, threatened and endangered species habitat, and potential bark beetle epidemics.

Comment Requested

The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the atlernatives formulated and discussed in the statement. Reviewers may wish to refer to the Council on Environmental Quality Regulations for implementing the procedural provisions of the National Environmental Policy Act at 40 CFR 1503.3 in addressing these points.

Dated: December 4, 2007.
Cathy Barbouletos,
Forest Supervisor, Flathead National Forest.

[FR Doc. 07-6012 Filed 12-10-07; 8:45 am]

BILLING CODE 3410-11-M